DEPARTMENT OF DEFENSE

Department of the Air Force

Intent to Grant a Partially Exclusive Patent License

AGENCY: The United States Air Force, DOD.

SUMMARY: Pursuant to the provisions of Part 404 of Title 37, Code of Federal Regulations, which implements Public Law 96-517, as amended; the Department of the Air Force announces its intention to grant SCADA Security Innovation, Inc., a Delaware corporation, having a place of business at 33 West First Street, Dayton, Ohio 45402, a partially exclusive license, the exclusive portion limited to the field of cyber security for embedded applications outside of industrial controls, in any right, title and interest the Air Force has in: U.S. Patent Application No. 13/190,520, filed July 26, 2011, titled “Using Software-based Decision Procedures to Control Instruction-level Execution” by William B. Kimball.

FOR FURTHER INFORMATION CONTACT: The Air Force intends to grant a license for the patent application and resulting patents unless a written objection is received within fifteen (15) days from the date of publication of this Notice. Written objection should be sent to: Air Force Materiel Command Law Office, AFMCLO/JAZ, 2240 B Street, Rm D-14, Wright-Patterson AFB, OH 45433-7109; Facsimile: (937) 255-3733.

Henry Williams Jr.,
DAF, Acting Air Force Federal Register Liaison Officer.

[FR Doc. 2012-12056 Filed 5-17-12; 8:45 am]

BILLING CODE 5001-10-P